DEPARTMENT OF THE INTERIOR

Bureau of Land Management

[MT-924-1430-ET; MTM 39381]

Opening of Land; Montana

AGENCY: Bureau of Land Management, Interior.

ACTION: Notice.

SUMMARY: Public Land Order No. 5748, which withdrew 80.72 acres of National Forest System land from location and entry under the mining laws for a recreation area and trailhead facilities into the Selway-Bitterroot Wilderness Area, expired August 27, 2000, by operation of law. This action will open the land to mining. The land has been and will remain open to such forms of disposition as may by law be made of National Forest System lands.

EFFECTIVE DATE: June 15, 2001.

FOR FURTHER INFORMATION CONTACT: Sandra Ward, BLM Montana State Office, P.O. Box 36800, Billings, Montana 59107, 406-896-5052.

SUPPLEMENTARY INFORMATION: Public Land Order No. 5748, published in the Federal Register August 28, 1980 (45 FR 573398), withdrew 80.72 acres of National Forest System land for a period of 20 years for a recreation area and trailhead facilities into the Selway-Bitterroot Wilderness Area. The public land order expired August 27, 2000, by operation of law. The following land is hereby opened to location and entry under the United States mining laws:

Lolo National Forest

Principal Meridian, Montana

T. 11 N., R. 21 W.,

Sec. 6, West 660 feet of lot 3, East 1,000 feet of lot 4, and East 1,000 feet of lot 5.

The area described contains 80.72 acres in Missoula County.

At 9 a.m. on (publication date), the land shall be opened to location and entry under the United States mining laws, subject to valid existing rights, the provisions of existing withdrawals, other segregations of record, and the requirements of applicable law. Appropriation of any lands described in this order under the general mining laws prior to the date and time of restoration is unauthorized. Any such attempted appropriation, including attempting adverse possession under 30 U.S.C. 38 (1994), shall vest no rights against the United States. Acts required to establish a location and to initiate a right of possession are governed by State law where not in conflict with Federal law. The Bureau of Land Management will not intervene in disputes between rival locators over possessory rights, since Congress has provided for such determinations in local courts.

Dated: May 24, 2001.
Howard A. Lemm,
Acting Deputy State Director, Division of Resources.

[FR Doc. 01-15108 Filed 6-14-01; 8:45 am]

BILLING CODE 4310-$$-P